DEPARTMENT OF AGRICULTURE

Forest Service

Proposed New Recreation Fee Site

AGENCY: Forest Service, Agriculture (USDA).

ACTION: Notice.

SUMMARY: The Chugach National Forest is proposing to establish a new recreation fee site. Recreation fee revenues collected at the new recreation fee site would be used for operation, maintenance, and improvement of the site. An analysis of nearby recreation fee sites with similar amenities shows the new recreation fee that would be charged at the new recreation fee site is reasonable and typical of similar recreation fee sites in the area.

DATES: If approved, the new fees would be implemented no earlier than six months following the publication of this notice in the Federal Register.

ADDRESSES: Chugach National Forest, 161 East 1st Avenue, Door 8, Anchorage, Alaska 99501.

FOR FURTHER INFORMATION CONTACT: Tyler Glenn, Recreation Program Manager, 907-743-9508, or tyler.glenn@usda.gov.

SUPPLEMENTARY INFORMATION: The Federal Lands Recreation Enhancement Act (16 U.S.C. 6803(b)) directs the Secretary of Agriculture to publish a six-month advance notice in the Federal Register of establishment of new recreation fee sites. In accordance with Forest Service Handbook 2309.13, Chapter 30, the Forest Service will publish the proposed new recreation fee for public notice and comment in local newspapers and other local publications. Most of the new recreation fee revenues would be spent where they are collected to enhance the visitor experience at the new recreation fee site.

An expanded amenity recreation fee of $75 per night would be charged for rental of the Trail River Cabin. The recreation fee revenues would support operation and maintenance of the cabin. Reservations for rental of the cabin could be made online at www.recreation.gov or by calling 877-444-6777. Reservations would cost $8.00 per reservation.

Dated: September 15, 2023.
Jacqueline Emanuel,
Associate Deputy Chief, National Forest System.

[FR Doc. 2023-20414 Filed 9-20-23; 8:45 am]

BILLING CODE 3411-15-P